INTERNATIONAL TRADE COMMISSION

[Investigation No. 332-345]

Recent Trends in U.S. Services Trade, 2006 Annual Report

AGENCY: United States International Trade Commission.

ACTION: Scheduling of 2006 report on Recent Trends in U.S. Services Trade and opportunity for the public to submit information.

SUMMARY: The International Trade Commission (ITC) has prepared and published annual reports in this series under investigation No. 332-345 since 1996 (Recent Trends in U.S. Services Trade). The 2006 report, which the Commission plans to publish in June 2006, will cover cross-border trade for the period ending in 2004 and transactions by affiliates based outside the country of their parent firm for the period ending in 2003. The Commission is inviting interested members of the public to furnish information in connection with the 2006 report.

EFFECTIVE DATE: September 14, 2005.

FOR FURTHER INFORMATION CONTACT: Questions about the report may be directed to the project leader, Eric Forden, Office of Industries (202-205-3235; eric.forden@usitc.gov) or to Richard Brown, Office of Industries (202-205-3438; richard.brown@usitc.gov). For information on legal aspects, please contact William Gearhart, Office of General Counsel (202-205-3091; william.gearhart@usitc.gov). The media should contact Margaret O'Laughlin, Public Affairs Officer (202-205-1819; margaret.olaughlin@usitc.gov). Hearing impaired individuals are advised that information on this matter can be obtained by contacting the TDD terminal on 202-205-1810. Inquiries or suggestions from the public regarding the report are welcome and should be directed to the Office of the Secretary at 202-205-2000; written inquiries should be addressed to the Secretary, U.S. International Trade Commission, 500 E Street, SW., Washington, DC 20436. General information concerning the Commission may also be obtained by accessing its Internet server http://www.usitc.gov. The public record for this investigation may be viewed on the Commission's electronic docket (EDIS-ON-LINE) at http://edis.usitc.gov.

Background: Under the investigation, the Commission publishes two annual reports, one on services trade (Recent Trends in U.S. Services Trade), and a second on merchandise trade (Shifts in U.S. Merchandise Trade). The latest version of the Commission's Recent Trends in U.S. Services Trade was published in June 2004 and may be obtained from the ITC's Internet server (http://www.usitc.gov); no report was published in 2005. A printed report may be requested by contacting the Office of the Secretary at 202-205-2000 or by fax at 202-205-2104.

The initial notice of institution of this investigation was published in the Federal Register on September 8, 1993 (58 FR 47287) and provided for what is now the report on merchandise trade. The Commission expanded the scope of the investigation to cover services trade in a separate report, which it announced in a notice published in the Federal Register of December 28, 1994 (59 FR 66974). The separate report on services trade has been published annually since 1996, except in 2005. As in past years, the report will summarize trade in services in the aggregate and provide analyses of trends and developments in selected services industries during the latest period for which data are published by the U.S. Department of Commerce, Bureau of Economic Analysis (for the 2006 report, data for the period described above).

Written Submissions: The Commission does not plan to hold a public hearing in connection with preparation of the 2006 report. However, interested persons are invited to submit written statements containing data and other information concerning the matters to be addressed in the reports. All submissions should be addressed to the Secretary, United States International Trade Commission, 500 E Street SW., Washington, DC 20436, and should be received no later than the close of business on October 28, 2005. All written submissions must conform with the provisions of section 201.8 of the Commission's Rules of Practice and Procedure (19 CFR 201.8). Section 201.8 of the rules requires that a signed original (or a copy designated as an original) and fourteen (14) copies of each document be filed. In the event that confidential treatment of the document is requested, as least four (4) additional copies must be filed, in which the confidential information must be deleted (see the following paragraph for further information regarding confidential business information). The Commission's rules do not authorize filing submissions with the Secretary by facsimile or electronic means, except to the extent permitted by section 201.8 of the rules (see Handbook for Electronic Filing Procedures, ftp://ftp.usitc.gov/pub/reports/electronic_filing_handbook.pdf).

Any submissions that contain confidential business information must also conform with the requirements of section 201.6 of the Commission's Rules of Practice and Procedure (19 CFR 201.6). Section 201.6 of the rules requires that the cover of the document and the individual pages be clearly marked as to whether they are the “confidential” or “non-confidential” version, and that the confidential business information be clearly identified by means of brackets. All written submissions, except for confidential business information, will be made available in the Office of the Secretary to the Commission for inspection by interested parties. The Commission plans to make the 2006 report available to the public in its entirety; it will not publish such confidential business information in its report in a manner that would reveal the operations of the firm supplying the information.

By order of the Commission.
Issued: September 16, 2005.
Marilyn R. Abbott,
Secretary to the Commission.

[FR Doc. 05-18893 Filed 9-21-05; 8:45 am]

BILLING CODE 7020-02-P